DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed reinstatement with change of the “Contingent Worker Supplement (CWS) to the Current Population Survey (CPS)” to be conducted in July 2023. A copy of the proposed information collection request (ICR) can be obtained by contacting the individual listed below in the addresses section of this notice.

DATES: Written comments must be submitted to the office listed in the Addresses section of this notice on or before February 21, 2023.

ADDRESSES: Send comments to Erin Good, BLS Clearance Officer, Division of Management Systems, Bureau of Labor Statistics, Room G225, 2 Massachusetts Avenue NE, Washington, DC 20212. Written comments also may be transmitted by email to BLS_PRA_Public@bls.gov.

FOR FURTHER INFORMATION CONTACT: Erin Good, BLS Clearance Officer, at 202-691-7628 (this is not a toll free number). (See ADDRESSES section.)

SUPPLEMENTARY INFORMATION:

I. Background

The purpose of this request for review is for the Bureau of Labor Statistics (BLS) to obtain clearance for a reinstatement with change for the Contingent Worker Supplement (CWS) to the Current Population Survey (CPS), which was last conducted in May 2017. The proposed CWS questions focus on contingent workers—those who do not expect their jobs to last or who report that their jobs are temporary—and workers in alternative employment arrangements, such as independent contractors, on-call workers, temporary help agency workers, and workers provided by contract firms.

Because this supplement is part of the CPS, the same detailed demographic information collected in the CPS will be available on respondents to the supplement. Comparisons will be possible across characteristics such as sex, race and ethnicity, age, and educational attainment of the respondent.

The CWS will provide information on the number and characteristics of workers in contingent jobs and alternative employment arrangements. Although the CWS was fielded 5 times from 1995 to 2005 and then in May 2017, there have been no comparable and reliable statistics in recent years to show how the number and characteristics of these workers are changing over time. The July 2023 CWS will allow researchers and policy makers to evaluate how the number and characteristics of these workers has evolved. Policy makers also can use these data to inform the design of regulations for different types of workers.

BLS is proposing to add new questions and remove outdated questions to the CWS. New questions on task-based and app-based work are designed to provide insight into additional work arrangements like digital labor platform work. (This new content replaces the 2017 items on electronically-mediated employment.) The 2023 supplement will also ask about work arrangements on second jobs for multiple jobholders. Our data users noted the absence of information about second jobs as a particular shortcoming of prior supplements.

II. Current Action

Office of Management and Budget clearance is being sought for the CPS Contingent Worker Supplement to the CPS. A reinstatement with change of this previously approved collection, for which approval has expired, is needed to provide the Nation with timely information about contingent and alternative work arrangements.

III. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

Title of Collection: Contingent Worker Supplement (CWS) to the Current Population Survey (CPS).

OMB Number: 1220-0153.

Type of Review: Reinstatement, with change.

Affected Public: Households.

Total Respondents: 47,000.

Frequency: Once.

Total Responses: 47,000.

Average Time per Response: 6 minutes.

Estimated Total Burden Hours: 4,700 hours.

Comments submitted in response to this notice will be summarized and/or included in the request for Office of Management and Budget approval of the information collection request; they also will become a matter of public record.

Signed at Washington, DC, on December 16, 2022.
Leslie A. Bennett,
Chief, Division of Management Systems.

[FR Doc. 2022-27949 Filed 12-22-22; 8:45 am]

BILLING CODE 4510-24-P